COMMITTEE FOR PURCHASE FROM PEOPLE WHO ARE BLIND OR SEVERELY DISABLED

Procurement List; Proposed Deletions

AGENCY: Committee for Purchase From People Who Are Blind or Severely Disabled.

ACTION: Proposed Deletions from Procurement List.

SUMMARY: The Committee is proposing to delete from the Procurement List services previously furnished by nonprofit agencies employing persons who are blind or have other severe disabilities.

Comments Must Be Received on or Before: February 27, 2005.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Commissary Shelf Stocking & Custodial; Fort Bragg and Malonee Village, Fayetteville, North Carolina.

NPA: None currently authorized.

Contracting Activity: Defense Commissary Agency, Fort Lee, Virginia.

Service Type/Location: Food Service; Pueblo Chemical Depot, Pueblo, Colorado.

NPA: Pueblo Diversified Industries, Inc., Pueblo, Colorado.

Contracting Activity: U.S. Army, Rocky Mountain Arsenal, Commerce City, Colorado.

Service Type/Location: Janitorial/Custodial; U.S. Federal Building and Courthouse, Fresno, California.

NPA: None currently authorized.

Contracting Activity: GSA, Public Buildings Service.

Sheryl D. Kennerly,
Director, Information Management.

[FR Doc. 05-1645 Filed 1-27-05; 8:45 am]

BILLING CODE 6353-01-P